LIBRARY OF CONGRESS

Copyright Office

37 CFR Parts 201 and 202

[Docket No. 2011-8]

Discontinuance of Form CO in Registration Practices

AGENCY: Copyright Office, Library of Congress.

ACTION: Notice of Proposed Rulemaking and request for comments.

SUMMARY: The United States Copyright Office is proposing to amend its regulations to discontinue use of the Form CO application as an option for applying for copyright registration; and remove the references to CON 1 and CON 2 sheets. Form CO applications comprise only a small percentage of all applications submitted but they contain a significant number of errors, thus requiring a disproportionate amount of the Office's time, effort and resources to process. The proposed amendments would remove references to Form CO and would instead allow applicants a choice to file an application for registration either by filing the application electronically or by using the appropriate printed application form that relates to the subject matter of the application (i.e., Form TX for nondramatic literary works, Form PA for works of the performing arts, Form VA for works of visual art, Form SR for sound recordings, and Form SE for serials). Additionally, the proposed amendment would remove the references to CON 1 and CON 2 sheets, which were never developed or made available to the public, and would instead refer only to the continuation sheets currently available for applicants filing paper applications.

DATES: Comments must be received in the Office of the General Counsel of the Copyright Office no later than November 29, 2011.

ADDRESSES: The Copyright Office strongly prefers that comments be submitted electronically. A comment submission page is posted on the Copyright Office Web site at http://www.copyright.gov/docs/formco/. The Web site interface requires submitters to complete a form specifying name and other required information, and to upload comments as an attachment. To meet accessibility standards, all comments must be uploaded in a single file in either the Adobe Portable Document File (PDF) format that contains searchable, accessible text (not an image); Microsoft Word; WordPerfect; Rich Text Format (RTF); or ASCII text file format (not a scanned document). The maximum file size is 6 megabytes (MB). The name of the submitter and organization should appear on both the form and the face of the comments. All comments will be posted publicly on the Copyright Office Web site exactly as they are received, along with names and organizations if provided. If electronic submission of comments is not feasible, please contact the Copyright Office at (202) 707-8380 for special instructions.

FOR FURTHER INFORMATION CONTACT: Tanya Sandros, Deputy General Counsel, Copyright Office, GC/I&R, P.O. Box 70400, Washington, DC 20024. Telephone: (202) 707-8380. Telefax: (202) 707-8366.

SUPPLEMENTARY INFORMATION: In 2007, the Copyright Office began an extensive business process reengineering initiative that had an impact on a variety of registration-related activities. See 72 FR 36883 (July 6, 2007). As part of this initiative, the Office promulgated interim regulations regarding how the public submits and the Office processes copyright applications. Id. In these interim regulations, the Office announced four ways to file an application for registration. At the time, the Office used the term “Form CO” generically in its regulations to cover all four approaches to registration. With the implementation of the new electronic registration practices, however, Form CO was used to describe a specific form that is filled out on a computer and that uses barcodes to capture the information entered by the claimant. This newer incarnation of Form CO, first made available in 2008, was intended to simplify the application process and replace the traditional paper forms Forms TX, VA, PA, SR, and SE. See 72 FR at 36885; 37 CFR 202.3(b)(2)(ii). However, following the implementation of reengineering, it eventually became clear (for reasons discussed below) that Form CO did not live up to its expectations because many users of the form made entries on the form that were not captured in the barcodes and therefore were not carried over into the Office's registration records. Indeed, experience of the past couple of years has demonstrated that the costs to the Office in offering and processing Form CO far outweigh the benefits, and the Office proposes to eliminate this application option.

The regulations also referred to two additional continuation sheets, CON 1 and CON 2, which the Office intended to be used in connection with Form CO and would have allowed applicants to provide additional information that would not fit within the bar codes to be generated by Form CO. See 72 FR at 36886. However, the Office never developed these new continuation sheets and continued to accept the traditional Form CON for providing additional information. See http://www.copyright.gov/forms/formcon.pdf. For this reason, the Office proposes to amend its regulations by removing references to CON 1 and CON 2.

1. Issues with Form CO. Although Form CO is not commonly used, it does present a disproportionate number of problems for the Office. For example, sometimes after filling out Form CO using the free Adobe Reader software, printing the form and closing out the program, the applicant would like to provide additional information. As many people are aware (and as the product itself warns), the free Adobe Reader software does not save the content once the document is closed, leaving the applicant with two choices to make corrections: To fill out the form again online or fill in the missing elements by hand. Many applicants have elected to fill in the additional information by hand. Unfortunately, writing on the form does not embed the added information into the barcode and, as a result, either additional time and resources are required for the Office to manually input this information into the system, or it may be missed in the ingestion process altogether.

The Office has also noted that some applicants using the more expensive Adobe Professional software work from a previously submitted form when preparing a new application for another work. In this scenario, the applicant prints out the original saved form because it includes all the basic information needed for registering the new work except for perhaps the title and the date of publication. The applicant then proceeds to “white-out” the erroneous information and type in or write in the new data associated with the later work. The new data entered manually on the form is not embedded into the barcode.

Errors like these result in discrepancies between the text on the application and the information embedded in the barcode. Because the errors occur on a fairly regular basis, Copyright Office staff are unsure whether and when to rely on the information that appears in the barcode of the applications. In order to exercise due diligence, staff instead undertake time-consuming comparisons of the printed text against the information ingested through the barcode, a process that defeats all the efficiencies promised by this technology.

Human error is not the only concern. The use of barcodes presents other unique problems associated with the technology. Barcodes can be compromised and thus fail to function properly. For example, the barcodes may be torn on one or more pages of the printed form or the applicant's printer may have distorted the barcode due to a number of technical difficulties, e.g., low toner, making it impossible to scan the data into the system. In these cases, the information on a Form CO application must be manually entered into the online registration system.

For these reasons, and because Form CO represents a very small percentage of applications received by the Office, (e.g., approximately two percent of applicants submitted since January 2011 have been submitted on Form CO), the Office has concluded that the use of Form CO should be discontinued.

Eliminating Form CO will simplify the registration process for the Copyright Office and leave applicants with two options to register their works: They may submit applications for registration electronically or they may use the traditional paper forms, e.g., Form TX, Form PA, Form VA, Form SR, and Form SE. Applications submitted electronically allow processing more quickly. However, both methods will lead to higher probability of accuracy than using Form CO.

2. CON 1 and CON 2 Forms. Although the regulations published in 2007 envisioned the creation and use of specialized continuation sheets for use with Form CO, the Copyright Office never created these forms. In the meantime, in circumstances when it is necessary or desirable to provide additional information, applicants continue to use the existing continuation sheet, Form CON. Because the Office is proposing to discontinue Form CO and never created the CON 1 and CON 2 forms that were to be used with Form CO, the Office now proposes to amend its regulations to remove references to the CON 1 and CON 2 forms. Note, however, that those applicants using paper applications may continue to use existing Form CON See http://www.copyright.gov/forms/formcon.pdf.

Accordingly, the Office proposes to amend its regulations to formally discontinue use of Form CO, and to eliminate references to CON 1 and CON 2. In lieu of these options, applicants may use the online registration system to file applications electronically (in cases where electronic filing is available) or use the existing paper application forms. As a related point of clarity, the Office also proposes to amend §§ 202.3(b)(10)(iv)(D) and (v) of the regulations, relating to group registration of published photographs, to clarify that the references therein to “special continuation sheet” are references to Form GR/PPh/CON.

List of Subjects

37 CFR Part 201

Copyright, General provisions

37 CFR Part 202

Copyright, Registration of claims to copyright.

Proposed Regulations

In consideration of the foregoing, the Copyright Office proposes to amend parts 201 and 202 of 37 CFR, as follows:

PART 201—GENERAL PROVISIONS

1. The authority citation for part 201 continues to read as follows:

Authority: 17 U.S.C. 702.

§ 201.3 [Amended]

2. Amend § 201.3(c) by removing the line beginning “Form-D barcode application properly completed online) * * *” and “; and Form CO without barcodes or incomplete information, or information added after printing (paper filing)” from item (1) of the fee chart titled “Registration, Recordation and Related Services.”

PART 202—PREREGISTRATION AND REGISTRATION OF CLAIMS TO COPYRIGHT

3. The authority citation for part 202 reads as follows:

Authority: 17 U.S.C. 409 and 702.

§ 202.3 [Amended]

4. Amend § 202.3(b) by revising paragraph (b)(2) and (b)(3).

5. Amend § 202.3(b)(10) by adding “(Form GR/PPh/CON)” after the phrase “special continuation sheet” wherever it appears.

6. Amend § 202.3(c)(2) by removing “, electronically or in printed form, on the appropriate form prescribed by the Register of Copyrights under” and by adding “by using one of the methods set forth in” in its place.

7. In § 202.3 revise paragraphs (b)(2)(i)-(ii) and (b)(3) to read as follows:

§ 202.3 Registration of copyright.

* * * * *

(b)(2) Application for registration. For purposes of registration, an applicant may submit an application for registration of individual works and certain groups of works electronically through the Copyright Office's Web site, or by using the printed forms prescribed by the Register of Copyrights.

(i) An applicant may submit an application electronically through the Copyright Office Web site [http://www.copyright.gov]. An online submission requires a payment of the application fee through an electronic fund transfer, credit card, or through a Copyright Office deposit account. Deposit materials in support of the online application may be submitted in a digital format along with the application and payment, or deposit materials in physically tangible formats may be separately mailed to the Copyright Office, using a mailing label generated during the online registration process, or

(ii) (A) Alternatively, an applicant may submit an application on one of the printed forms prescribed by the Register of Copyrights. Each printed form corresponds to a class set forth in paragraph (b)(1) of this section and is so designated (“Form TX”; “Form PA”; “Form VA”; “Form SR”; “Form SE”; and “Form SE/Group”). Printed form applications should be submitted in the class most appropriate to the nature of the authorship in which copyright is claimed. In the case of contributions to collective works, applications should be submitted in the class representing the copyrightable authorship in the contribution. In the case of derivative works, applications should be submitted in the class most appropriately representing the copyrightable authorship involved in recasting, transforming, adapting, or otherwise modifying the preexisting work. In cases where a work contains elements of authorship in which copyright is claimed which fall into two or more classes, the application should be submitted in the class most appropriate to the type of authorship that predominates in the work as a whole. However, in any case where registration is sought for a work consisting of or including a sound recording in which copyright is claimed the application shall be submitted on Form SR. Copies of the printed forms are available on the Copyright Office's Web site [http://www.copyright.gov] and upon request to the Copyright Public Information Office, Library of Congress.

(B) Printed form applications may be completed and submitted by completing a printed version or using a PDF version of the applicable Copyright Office application form and mailing it together with the other required elements, i.e., physically tangible deposit copies and/or materials, and the required filing fee, all elements being placed in the same package and sent by mail or hand-delivered to the Copyright Office.

(b)(3) Continuation sheets. A continuation sheet is appropriate only in the case when a printed form application is used and where additional space is needed by the applicant to provide all relevant information concerning a claim to copyright. An application may include more than one continuation sheet, subject to the limitations in paragraphs (b)(10)(v) of this section.

* * * * *

Dated: September 27, 2011.
Maria A. Pallante,
Register of Copyrights.

[FR Doc. 2011-25230 Filed 9-29-11; 8:45 am]

BILLING CODE 1410-30-P